NATIONAL AERONAUTICS AND SPACE ADMINSTRATION

[Notice 04-148]

NASA Robotic and Human Exploration of Mars Strategic Roadmapping Committee; Meeting

AGENCY: National Aeronautics and Space Administration (NASA).

ACTION: Notice of meeting.

SUMMARY: In accordance with the Federal Advisory Committee Act, Public Law 92-463, as amended, the National Aeronautics and Space Administration announces a meeting of the NASA Robotic and Human Exploration of Mars Strategic Roadmapping Committee.

DATES: Tuesday, January 4, 2005, 8 a.m. to 5 p.m., Wednesday, January 5, 2005, 8 a.m. to 5 p.m., Thursday, January 6, 2005, 8 a.m. to 5 p.m., Pacific standard time.

ADDRESSES: Spitzer Science Center/Keith Spalding, Room 410, 200 East California Boulevard, Pasadena, CA 91125.

FOR FURTHER INFORMATION CONTACT: Ms. Tracey Abbott at (818) 393-7106.

SUPPLEMENTARY INFORMATION: The meeting will be open to the public up to the seating capacity of the meeting room. Attendees will be requested to sign a register.

The agenda for the meeting is as follows:

—Mars science: What we know today.

—Science planning for exploring Mars.

—Overview of robotic science missions.

—Challenges of Mars robotic and human exploration.

—Human mission studies, options, and technology needs.

—Key issues to be studied.

It is imperative that the meeting be held on this date to accommodate the scheduling priorities of the key participants.

P. Diane Rausch,
Advisory Committee Management Officer, National Aeronautics and Space Administration.

[FR Doc. 04-27890 Filed 12-20-04; 8:45 am]

BILLING CODE 7510-13-P